DEPARTMENT OF THE INTERIOR

National Park Service

[NPS-WASO-NAGPRA-NPS0035287; PPWOCRADN0-PCU00RP14.R50000]

Notice of Inventory Completion: North Carolina Office of State Archaeology, Raleigh, NC

AGENCY: National Park Service, Interior.

ACTION: Notice.

SUMMARY: The North Carolina Office of State Archaeology has completed an inventory of human remains and associated funerary objects, in consultation with the appropriate Indian Tribes or Native Hawaiian organizations and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the North Carolina Office of State Archaeology. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the North Carolina Office of State Archaeology at the address in this notice by March 10, 2023.

FOR FURTHER INFORMATION CONTACT: Emily McDowell, Office of State Archaeology, 215 West Lane Street, Raleigh, NC 27616, telephone (919) 715-5599, email emily.mcdowell@ncdcr.gov.

SUPPLEMENTARY INFORMATION: Notice is here given in accordance with the Native American Graves Protection and Repatriation Act (NAGPRA), 25 U.S.C. 3003, of the completion of an inventory of human remains and associated funerary objects under the control of the North Carolina Office of State Archaeology, Raleigh, NC. The human remains and associated funerary objects were removed from the Peachtree Mound and Village Site (31CE1 and 31CE6) located in Cherokee County, NC.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the North Carolina Office of State Archaeology professional staff in consultation with representatives of the Cherokee Nation; Eastern Band of Cherokee Indians; and The Muscogee (Creek) Nation.

History and Description of the Remains

At an unknown time, believed to be 1982, human remains representing, at minimum, one individual were removed from the Peachtree Mound and Village site (31CE1 and 31CE6) in Cherokee County, NC, by a former North Carolina Office of State Archaeology staff member during a visit to the site to investigate extensive damage done to the mound and village by pot hunters. This site had been monitored over several years by previous staff at the Office of State Archaeology. Although the only report on file for these visits, from 1982, does not specify whether human remains were recovered, the Office of State Archaeology reasonably believes that these human remains were removed during that visit. The remains were collected from the surface of the site and presumably belong to an adult. No known individuals were identified. The 284 associated funerary objects are 225 pottery sherds, 35 animal bone fragments, 15 shell fragments, seven rocks, one daub, and one flake.

Described as a “platform mound,” this site has been excavated since the 1870s. The mound is believed to be a ceremonial structure. Writing in 1941, Setzler and Jennings identified Peachtree Mound and Village as a Woodland-to-Mississippian period site with a historic occupation, and noted that, characteristically, it was similar to the Cherokee village known as Guasili described by De Soto in 1540. Setzler and Jennings also observed that the site's “spatial centrality, combined with its topographic isolation deep in the mountains, makes it highly improbable that it was alternately occupied by Cherokee and other Indian groups.” Additionally, several of the pottery sherds have been identified as Qualla, a phase specifically associated with Cherokee occupation.

Determinations Made by the North Carolina Office of State Archaeology

Officials of the North Carolina Office of State Archaeology have determined that:

• Pursuant to 25 U.S.C. 3001(9), the human remains described in this notice represent the physical remains of one individual of Native American ancestry.

• Pursuant to 25 U.S.C. 3001(3)(A), the 284 objects described in this notice are reasonably believed to have been placed with or near individual human remains at the time of death or later as part of the death rite or ceremony.

• Pursuant to 25 U.S.C. 3001(2), there is a relationship of shared group identity that can be reasonably traced between the Native American human remains and associated funerary objects and the Cherokee Nation; Eastern Band of Cherokee Indians; and the United Keetoowah Band of Cherokee Indians in Oklahoma (hereafter referred to “The Tribes”).

Additional Requestors and Disposition

Lineal descendants or representatives of any Indian Tribe or Native Hawaiian organization not identified in this notice that wish to request transfer of control of these human remains and associated funerary objects should submit a written request with information in support of the request to Emily McDowell, North Carolina Office of State Archaeology, 215 West Lane Street, Raleigh, NC 27616, telephone (919) 715-5599, email emily.mcdowell@ncdcr.gov, by March 10, 2023. After that date, if no additional requestors have come forward, transfer of control of the human remains and associated funerary objects to The Tribes may proceed.

The North Carolina Office of State Archaeology is responsible for notifying The Tribes and The Muscogee (Creek) Nation that this notice has been published.

Dated: February 1, 2023.
Melanie O'Brien,
Manager, National NAGPRA Program.

[FR Doc. 2023-02630 Filed 2-7-23; 8:45 am]

BILLING CODE 4312-52-P